DEPARTMENT OF DEFENSE

GENERAL SERVICES ADMINISTRATION

NATIONAL AERONAUTICS AND SPACE ADMINISTRATION

48 CFR Ch. 1

Semiannual Regulatory Agenda

AGENCY: Department of Defense (DoD), General Services Administration (GSA), and National Aeronautics and Space Administration (NASA).

ACTION: Semiannual regulatory agenda.

SUMMARY: This agenda provides summary descriptions of regulations being developed by the Civilian Agency Acquisition Council and the Defense Acquisition Regulations Council in compliance with Executive Order 12866 “Regulatory Planning and Review.” This agenda is being published to allow interested persons an opportunity to participate in the rulemaking process. The Regulatory Secretariat Division has attempted to list all regulations pending at the time of publication, except for minor and routine or repetitive actions; however, unanticipated requirements may result in the issuance of regulations that are not included in this agenda. There is no legal significance to the omission of an item from this listing. Also, the dates shown for the steps of each action are estimated and are not commitments to act on or by the dates shown.

Published proposed rules may be reviewed in their entirety at the Government's rulemaking Web site at http://www.regulations.gov.

FOR FURTHER INFORMATION CONTACT: Hada Flowers, Director, Regulatory Secretariat Division, 1800 F Street NW., 2nd Floor, Washington, DC 20405-0001, 202-501-4755.

SUPPLEMENTARY INFORMATION: DoD, GSA, and NASA, under their several statutory authorities, jointly issue and maintain the FAR through periodic issuance of changes published in the Federal Register and produced electronically as Federal Acquisition Circulars (FACs).

The electronic version of the FAR, including changes, can be accessed on the FAR Web site at http://www.acquisition.gov/far.

Dated: August 29, 2016.
William Clark,
Director, Office of Government-wide Acquisition Policy, Office of Acquisition Policy, Office of Government-wide Policy.

DOD/GSA/NASA (FAR)—Proposed Rule Stage
Sequence No. | Title | Regulation Identifier No.
416 | Federal Acquisition Regulation (FAR); FAR Case 2013-018; Clarification of Requirement for Justifications for 8(a) Sole Source Contracts | 9000-AM90
417 | Federal Acquisition Regulation (FAR); FAR Case 2014-002; Set-Asides Under Multiple Award Contracts | 9000-AM93
418 | Federal Acquisition Regulation (FAR); FAR Case 2015-021; Determination of Fair and Reasonable Prices on Orders Under Multiple Award Contracts | 9000-AM94
419 | Federal Acquisition Regulation (FAR); FAR Case 2015-014; Prohibition on Providing Funds to the Enemy | 9000-AN03
420 | Federal Acquisition Regulation (FAR); FAR Case 2015-039, Audit of Settlement Proposals | 9000-AN26

DOD/GSA/NASA (FAR)—Final Rule Stage
Sequence No. | Title | Regulation Identifier No.
421 | Federal Acquisition Regulation (FAR); FAR Case 2011-001; Organizational Conflicts of Interest and Unequal Access to Information | 9000-AL82
422 | Federal Acquisition Regulation (FAR); FAR Case 2010-013; Privacy Training | 9000-AM02
423 | Federal Acquisition Regulation (FAR); FAR Case 2012-025; Applicability of the Senior Executive Compensation Benchmark | 9000-AM39
424 | Federal Acquisition Regulation (FAR); FAR Case 2012-022; Contracts Under the Small Business Administration 8(a) Program | 9000-AM68
425 | Federal Acquisition Regulation (FAR); FAR Case 2013-014; Uniform Use of Line Items | 9000-AM73
426 | Federal Acquisition Regulation (FAR); FAR Case 2015-015; Strategic Sourcing Documentation | 9000-AM89
427 | Federal Acquisition Regulation (FAR); FAR Case 2014-003; Small Business Subcontracting Improvements | 9000-AM91
428 | Federal Acquisition Regulation (FAR); FAR Case 2015-016; Prohibition on Reimbursement for Congressional Investigations and Inquiries | 9000-AM97
429 | Federal Acquisition Regulation (FAR); FAR Case 2014-004; Payment of Subcontractors | 9000-AM98
430 | Federal Acquisition Regulation (FAR); FAR Case 2015-017; Combating Trafficking in Persons—Definition of “Recruitment Fees” | 9000-AN02
431 | Federal Acquisition Regulation (FAR); FAR Case 2015-012; Contractor Employee Internal Confidentiality Agreements | 9000-AN04
432 | Federal Acquisition Regulation (FAR); FAR Case 2016-007; Non-Retaliation for Disclosure of Compensation Information | 9000-AN10
433 | Federal Acquisition Regulation (FAR); FAR Case 2016-004; Acquisition Threshold for Special Emergency Procurement Authority | 9000-AN18
434 | Federal Acquisition Regulation (FAR); FAR Case 2015-005, System for Award Management Registration | 9000-AN19
435 | Federal Regulation Acquisition (FAR); FAR Case 2015-024, Public Disclosure of Greenhouse Gas Emissions and Reduction Goals-Representation | 9000-AN20
436 | Federal Acquisition Regulation (FAR); FAR Case 2015-035, Removal of Regulations Relating to Telegraphic Communication | 9000-AN23
437 | Federal Acquisition Regulation; FAR Case 2017-001; Paid Sick Leave for Federal Contractors | 9000-AN27

DOD/GSA/NASA (FAR)—Completed Actions
Sequence No. | Title | Regulation Identifier No.
438 | Federal Acquisition Regulation (FAR); FAR Case 2011-020; Basic Safeguarding of Contractor Information Systems | 9000-AM19
439 | Federal Acquisition Regulation (FAR); FAR Case 2014-012; Limitation on Allowable Government Contractor Compensation Costs | 9000-AM75
440 | Federal Acquisition Regulation (FAR); FAR Case 2014-025; Fair Pay and Safe Workplaces | 9000-AM81
441 | Federal Acquisition Regulation (FAR); FAR Case 2014-026; High Global Warming Potential Hydrofluorocarbons | 9000-AM87
442 | Federal Acquisition Regulation (FAR); FAR Case 2014-015; Consolidation and Bundling | 9000-AM92
443 | Federal Acquisition Regulation (FAR); FAR Case 2015-018; Improvements in Design Build Construction Process | 9000-AM99
444 | Federal Acquisition Regulation (FAR); FAR Case 2015-022; Unique Identification of Entities Receiving Federal Awards | 9000-AN00
445 | Federal Acquisition Regulation (FAR); FAR Case 2015-011; Prohibition on Contracting With Corporations With Delinquent Taxes or a Felony Conviction | 9000-AN05
446 | Federal Acquisition Regulation (FAR): FAR Case 2014-018; Contractors Performing Private Security Functions | 9000-AN07
447 | Federal Acquisition Regulation; FAR Case 2015-020, Simplified Acquisition Threshold for Overseas Acquisitions in Support of Humanitarian or Peacekeeping Operations | 9000-AN09
448 | Federal Acquisition Regulation (FAR); FAR Case 2015-025, Revision to Standard Forms for Bonds | 9000-AN11
449 | Federal Acquisition Regulation (FAR); FAR Case 2015-032, Sole Source Contracts for Women-Owned Small Businesses | 9000-AN13
450 | Federal Acquisition Regulation (FAR); FAR Case 2015-036, Updating Federal Contractor Reporting of Veterans' Employment | 9000-AN14
451 | Federal Acquisition Regulation (FAR); FAR Case 2016-003, Administrative Cost To Issue and Administer a Contract | 9000-AN21
452 | FAR Case 2016-006; Amendment Relating to Multi-year Contract Authority for Acquisition of Property | 9000-AN24
453 | Federal Acquisition Regulation; FAR Case 2016-009; New Designated Countries-Ukraine and Moldova | 9000-AN25

DEPARTMENT OF DEFENSE/GENERAL SERVICES ADMINISTRATION/NATIONAL AERONAUTICS AND SPACE ADMINISTRATION (FAR)

Proposed Rule Stage

416. Federal Acquisition Regulation (FAR); FAR Case 2013-018; Clarification of Requirement for Justifications for 8(a) Sole Source Contracts

Legal Authority: 40 U.S.C. 121(c); 10 U.S.C. ch. 137; 51 U.S.C. 20113

Abstract: DoD, GSA, and NASA are proposing to amend the Federal Acquisition Regulation to clarify the guidance for sole-source 8(a) contract awards exceeding $20 million, in response to Government Accounting Office Report to the Chairman, Subcommittee on Contracting Oversight, Committee on Homeland Security and Governmental Affairs, U.S. Senate, entitled Federal Contracting: Slow Start to Implementation of Justifications for 8(a) Sole-Source Contracts (GAO-13-118 dated December 2012).

Timetable:

Action | Date | FR Cite
NPRM | 12/00/16 |

Regulatory Flexibility Analysis Required: Yes.

Agency Contact: Mahruba Uddowla, Procurement Analyst, DOD/GSA/NASA (FAR), 1800 F Street NW., Washington, DC 20405, Phone: 703 605-2868, Email: mahruba.uddowla@gsa.gov.

RIN: 9000-AM90

417. Federal Acquisition Regulation (FAR); FAR Case 2014-002; Set-Asides Under Multiple Award Contracts

Legal Authority: 40 U.S.C. 121(c); 10 U.S.C. ch. 137; 51 U.S.C. 20113

Abstract: DoD, GSA, and NASA are proposing to amend the Federal Acquisition Regulation (FAR) to implement regulatory changes made by the Small Business Administration, which provide Government-wide policy for partial set-asides and reserves, and setting aside orders for small business concerns under multiple-award contracts. This case is included in the FAR retrospective review of existing regulations under Executive Order 13563. Additional information is located in the FAR final plan (2016), available at: https://www.acquisition.gov/.

Timetable:

Action | Date | FR Cite
NPRM | 12/00/16 |

Regulatory Flexibility Analysis Required: Yes.

Agency Contact: Mahruba Uddowla, Procurement Analyst, DOD/GSA/NASA (FAR), 1800 F Street NW., Washington, DC 20405, Phone: 703 605-2868, Email: mahruba.uddowla@gsa.gov.

RIN: 9000-AM93

418. Federal Acquisition Regulation (FAR); FAR Case 2015-021; Determination of Fair and Reasonable Prices on Orders Under Multiple Award Contracts

Legal Authority: 40 U.S.C. 121(c); 10 U.S.C. ch. 137; 51 U.S.C. 20113

Abstract: DoD, GSA, and NASA are proposing to amend the Federal Acquisition Regulation to clarify the responsibilities for ordering activity contracting officers to determine fair and reasonable prices when using Federal Supply Schedules. This case codifies the class deviations issued by both NASA and DoD. This case is included in the FAR retrospective review of existing regulations under Executive Order 13563. Additional information is located in the FAR final plan (2016), available at: https://www.acquisition.gov/.

Timetable:

Action | Date | FR Cite
NPRM | 03/00/17 |

Regulatory Flexibility Analysis Required: Yes.

Agency Contact: Curtis E. Glover Sr., Procurement Analyst, DOD/GSA/NASA (FAR), 1800 F Street NW., Washington, DC 20405, Phone: 202 501-1448, Email: curtis.glover@gsa.gov.

RIN: 9000-AM94

419. Federal Acquisition Regulation (FAR); FAR Case 2015-014; Prohibition on Providing Funds to the Enemy

Legal Authority: 40 U.S.C. 121(c); 10 U.S.C. ch. 137; 51 U.S.C. 20113

Abstract: DoD, GSA, and NASA are proposing to amend the Federal Acquisition Regulation (FAR) to implement subtitle E of title VIII of the Carl Levin and Howard P. `Buck' McKeon National Defense Authorization Act (NDAA) for Fiscal Year (FY) 2015, which prohibits providing funds to the enemy. It also provides additional access to records to the extent necessary to ensure that funds available under the contract are not made available to the enemy.

Timetable:

Action | Date | FR Cite
NPRM | 03/00/17 |

Regulatory Flexibility Analysis Required: Yes.

Agency Contact: Cecelia L. Davis, Procurement Analyst, DOD/GSA/NASA (FAR), 1800 F Street NW., Washington, DC 20405, Phone: 202 219-0202, Email: cecelia.davis@gsa.gov.

RIN: 9000-AN03

420. • Federal Acquisition Regulation (FAR); FAR Case 2015-039, Audit of Settlement Proposals

Legal Authority: 40 U.S.C. 121(c); 10 U.S.C. ch. 137; 51 U.S.C. 20113

Abstract: DoD, GSA, and NASA are proposing to amend the Federal Acquisition Regulation (FAR) to raise the dollar threshold requirement for the audit of prime contract settlement proposals and subcontract settlements from $100,000 to $750,000.

Timetable:

Action | Date | FR Cite
NPRM | 09/14/16 | 81 FR 63158
NPRM Comment Period End | 11/14/16 |
Final Rule | 04/00/17 |

Regulatory Flexibility Analysis Required: Yes.

Agency Contact: Kathy Hopkins, Procurement Analyst, DOD/GSA/NASA (FAR), 1800 F Street NW., Washington, DC 20405, Phone: 202 969-7226, Email: kathlyn.hopkins@gsa.gov.

RIN: 9000-AN26

DEPARTMENT OF DEFENSE/GENERAL SERVICES ADMINISTRATION/NATIONAL AERONAUTICS AND SPACE ADMINISTRATION (FAR)

Final Rule Stage

421. Federal Acquisition Regulation (FAR); FAR Case 2011-001; Organizational Conflicts of Interest and Unequal Access to Information

Legal Authority: 40 U.S.C. 121(c); 10 U.S.C. ch. 137; 51 U.S.C. 20113

Abstract: DoD, GSA, and NASA are issuing a final rule amending the Federal Acquisition Regulation (FAR) to provide revised regulatory coverage on organizational conflicts of interest (OCIs), and add related provisions and clauses. Coverage on contractor access to protected information has been moved to a new proposed rule, FAR Case 2012-029 now FAR Case 2014-021. Section 841 of the Duncan Hunter National Defense Authorization Act for fiscal year 2009 (Pub. L. 110-417) required a review of the FAR coverage on OCIs. The proposed rule was developed as a result of a review conducted in accordance with section 841 by the Civilian Agency Acquisition Council, the Defense Acquisition Regulations Council, and the Office of Federal Procurement Policy, in consultation with the Office of Government Ethics. The proposed rule was preceded by an Advance Notice of Proposed Rulemaking, under FAR Case 2007-018 (73 FR 15962), to gather comments from the public with regard to whether and how to improve the FAR coverage on OCIs. This case is included in the FAR retrospective review of existing regulations under Executive Order 13563. Additional information is located in the FAR final plan (2016), available at: https://www.acquisition.gov/.

Timetable:

Action | Date | FR Cite
NPRM | 04/26/11 | 76 FR 23236
NPRM Comment Period End | 06/27/11 |
NPRM Comment Period Extended | 06/29/11 | 76 FR 38089
NPRM Comment Period Extended End | 07/27/11 |
Final Rule | 12/00/16 |

Regulatory Flexibility Analysis Required: Yes.

Agency Contact: Cecelia L. Davis, Procurement Analyst, DOD/GSA/NASA (FAR), 1800 F Street NW., Washington, DC 20405, Phone: 202 219-0202, Email: cecelia.davis@gsa.gov.

RIN: 9000-AL82

422. Federal Acquisition Regulation (FAR); FAR Case 2010-013; Privacy Training

Legal Authority: 40 U.S.C. 121(c); 10 U.S.C. ch. 137; 51 U.S.C. 20113

Abstract: DoD, GSA, and NASA are issuing a final rule to amend the Federal Acquisition Regulation (FAR) to ensure that all contractors are required to complete training in the protection of privacy and the handling and safeguarding of Personally Identifiable Information (PII). The proposed FAR language provides flexibility for agencies to conduct the privacy training or require the contractor to conduct the privacy training. This case is included in the FAR retrospective review of existing regulations under Executive Order 13563. Additional information is located in the FAR final plan (2016), available at: https://www.acquisition.gov/.

Timetable:

Action | Date | FR Cite
NPRM | 10/14/11 | 76 FR 63896
NPRM Comment Period End | 12/13/11 |
Final Rule | 12/00/16 |

Regulatory Flexibility Analysis Required: Yes.

Agency Contact: Charles Gray, Procurement Analyst, DOD/GSA/NASA (FAR), 1800 F Street NW., Washington, DC 20405, Phone: 202 208-6726, Email: charles.gray@gsa.gov.

RIN: 9000-AM02

423. Federal Acquisition Regulation (FAR); FAR Case 2012-025; Applicability of the Senior Executive Compensation Benchmark

Legal Authority: 40 U.S.C. 121(c); 10 U.S.C. ch. 137; 51 U.S.C. 20113

Abstract: DoD, GSA, and NASA are issuing a final rule to amend the Federal Acquisition Regulation (FAR) to continue the implementation of the requirements of section 803 of the National Defense Authorization Act for Fiscal Year 2012. The proposed rule seeks public comments on the retroactive application of section 803 to contracts that had been awarded by DoD, NASA, and the Coast Guard before the date of enactment of section 803 (which was December 31, 2011). In addition, also as part of the implementation in the FAR of section 803, DoD, GSA, and NASA are separately issuing an interim rule (FAR Case 2012-017) that addresses the prospective application of section 803 to contracts awarded on or after December 31, 2011.

Timetable:

Action | Date | FR Cite
NPRM | 06/26/13 | 78 FR 38539
NPRM Comment Period End | 08/26/13 |
Final Rule | 04/00/17 |

Regulatory Flexibility Analysis Required: Yes.

Agency Contact: Kathy Hopkins, Procurement Analyst, DOD/GSA/NASA (FAR), 1800 F Street NW., Washington, DC 20405, Phone: 202 969-7226, Email: kathlyn.hopkins@gsa.gov.

RIN: 9000-AM39

424. Federal Acquisition Regulation (FAR); FAR Case 2012-022; Contracts Under the Small Business Administration 8(a) Program

Legal Authority: 40 U.S.C. 121(c); 10 U.S.C. ch. 137; 51 U.S.C. 20113

Abstract: DoD, GSA, and NASA are issuing a final rule to amend the Federal Acquisition Regulation (FAR) to implement revisions made by the Small Business Administration to its regulations implementing section 8(a) of the Small Business Act, and to provide additional FAR coverage regarding protesting an 8(a) participant's eligibility or size status, procedures for releasing a requirement for non-8(a) procurements, and the ways a participant could exit the 8(a) Business Development program.

Timetable:

Action | Date | FR Cite
NPRM | 02/03/14 | 79 FR 6135
NPRM Comment Period End | 04/14/14 |
Final Rule | 12/00/16 |

Regulatory Flexibility Analysis Required: Yes.

Agency Contact: Mahruba Uddowla, Procurement Analyst, DOD/GSA/NASA (FAR), 1800 F Street NW., Washington, DC 20405, Phone: 703 605-2868, Email: mahruba.uddowla@gsa.gov.

RIN: 9000-AM68

425. Federal Acquisition Regulation (FAR); FAR Case 2013-014; Uniform Use of Line Items

Legal Authority: 40 U.S.C. 121(c); 10 U.S.C. ch. 137; 51 U.S.C. 20113

Abstract: DoD, GSA, and NASA are issuing a final rule to amend the Federal Acquisition Regulation to establish and require a uniform use of a line item identification structure in Federal procurement. The system is designed to improve the accuracy, traceability, and usability of procurement data.

Timetable:

Action | Date | FR Cite
NPRM | 08/05/14 | 79 FR 45408
NPRM Comment Period End | 10/06/14 |
Final Rule | 12/00/16 |

Regulatory Flexibility Analysis Required: Yes.

Agency Contact: Camara Francis, Procurement Analyst, DOD/GSA/NASA (FAR), 1800 F Street NW., Washington, DC 20405, Phone: 202 550-0935, Email: camara.francis@gsa.gov.

RIN: 9000-AM73

426. Federal Acquisition Regulation (FAR); FAR Case 2015-015; Strategic Sourcing Documentation

Legal Authority: 40 U.S.C. 121(c); 10 U.S.C. ch. 137; 51 U.S.C. 20113

Abstract: DoD, GSA, and NASA are issuing a final rule amending the Federal Acquisition Regulation to implement section 836 of the 2015 National Defense Authorization Act, which provides that when the Federal Government makes a purchase of supplies or services offered under the Federal Strategic Sourcing Initiative (FSSI), but the FSSI is not used, the contract file for the purchase shall include a brief analysis of the comparative value, including price and nonprice factors, between the supplies and services offered under the FSSI and those offered under the source(s) to be used for the purchase. This case is included in the FAR retrospective review of existing regulations under Executive Order 13563. Additional information is located in the FAR final plan (2016), available at: https://www.acquisition.gov/.

Timetable:

Action | Date | FR Cite
NPRM | 06/20/16 | 81 FR 39883
NPRM Comment Period End | 08/19/16 |
Final Rule | 03/00/17 |

Regulatory Flexibility Analysis Required: Yes.

Agency Contact: Michael O. Jackson, Procurement Analyst, DOD/GSA/NASA (FAR), 1800 F Street NW., Washington, DC 20405, Phone: 202 208-4949, Email: michaelo.jackson@gsa.gov.

RIN: 9000-AM89

427. Federal Acquisition Regulation (FAR); FAR Case 2014-003; Small Business Subcontracting Improvements

Legal Authority: 40 U.S.C. 121(c); 10 U.S.C. ch. 137; 51 U.S.C. 20113

Abstract: DoD, GSA, and NASA issued a final rule to amend the Federal Acquisition Regulation (FAR) to implement regulatory changes made by the Small Business Administration (SBA) in its final rule, concerning small business subcontracting. Among other things, SBA's final rule implements the statutory requirements set forth at sections 1321 and 1322 of the Small Business Jobs Act of 2010. This case is included in the FAR retrospective review of existing regulations under Executive Order 13563. Additional information is located in the FAR final plan (2016), available at: https://www.acquisition.gov/.

Timetable:

Action | Date | FR Cite
NPRM | 06/10/15 | 80 FR 32909
NPRM Comment Period End | 08/10/15 |
Final Rule | 07/14/16 | 81 FR 45833
Final Rule Effective | 11/00/16 |

Regulatory Flexibility Analysis Required: Yes.

Agency Contact: Mahruba Uddowla, Procurement Analyst, DOD/GSA/NASA (FAR), 1800 F Street NW., Washington, DC 20405, Phone: 703 605-2868, Email: mahruba.uddowla@gsa.gov.

RIN: 9000-AM91

428. Federal Acquisition Regulation (FAR); FAR Case 2015-016; Prohibition on Reimbursement for Congressional Investigations and Inquiries

Legal Authority: 40 U.S.C. 121(c); 10 U.S.C. ch. 137; 51 U.S.C. 20113

Abstract: DoD, GSA, and NASA are issuing a final rule to amend the Federal Acquisition Regulation (FAR) to implement section 857 of the Carl Levin and Howard P. `Buck' McKeon National Defense Authorization Act for Fiscal Year 2015. This section provides additional requirements relative to the allowability of costs incurred by a contractor in connection with a congressional investigation or inquiry.

Timetable:

Action | Date | FR Cite
NPRM | 02/17/16 | 81 FR 8031
NPRM Comment Period End | 04/18/16 |
Final Rule | 12/00/16 |

Regulatory Flexibility Analysis Required: Yes.

Agency Contact: Kathy Hopkins, Procurement Analyst, DOD/GSA/NASA (FAR), 1800 F Street NW., Washington, DC 20405, Phone: 202 969-7226, Email: kathlyn.hopkins@gsa.gov.

RIN: 9000-AM97

429. Federal Acquisition Regulation (FAR); FAR Case 2014-004; Payment of Subcontractors

Legal Authority: 40 U.S.C. 121(c); 10 U.S.C. ch. 137; 51 U.S.C. 20113

Abstract: DoD, GSA, and NASA are issuing a final rule to amend the Federal Acquisition Regulation (FAR) to implement a section of the Small Business Jobs Act of 2010. This statute requires contractors to notify the contracting officer in writing if the contractor pays a reduced price to a small business subcontractor, or if the contractor's payment to a small business contractor is more than 90 days past due. Additional information is located in the FAR final plan (2016), available at: https://www.acquisition.gov/.

Timetable:

Action | Date | FR Cite
NPRM | 01/20/16 | 81 FR 3087
NPRM Comment Period End | 03/21/16 |
Final Rule | 12/00/16 |

Regulatory Flexibility Analysis Required: Yes.

Agency Contact: Curtis E. Glover Sr., Procurement Analyst, DOD/GSA/NASA (FAR), 1800 F Street NW., Washington, DC 20405, Phone: 202 501-1448, Email: curtis.glover@gsa.gov.

RIN: 9000-AM98

430. Federal Acquisition Regulation (FAR); FAR Case 2015-017; Combating Trafficking in Persons—Definition of “Recruitment Fees”

Legal Authority: 40 U.S.C. 121(c); 10 U.S.C. ch. 137; 51 U.S.C. 20113

Abstract: DoD, GSA, and NASA are issuing a final rule to amend the Federal Acquisition Regulation (FAR) to provide a definition of recruitment fees. The FAR policy on combating trafficking in persons prohibits contractors from charging employees recruitment fees, in accordance with the Executive Order entitled Strengthening Protections Against Trafficking in Persons in Federal Contracts.”

Timetable:

Action | Date | FR Cite
NPRM | 05/11/16 | 81 FR 29244
NPRM Comment Period End | 07/11/16 |
Final Rule | 02/00/17 |

Regulatory Flexibility Analysis Required: Yes.

Agency Contact: Cecelia L. Davis, Procurement Analyst, DOD/GSA/NASA (FAR), 1800 F Street NW., Washington, DC 20405, Phone: 202 219-0202, Email: cecelia.davis@gsa.gov.

RIN: 9000-AN02

431. Federal Acquisition Regulation (FAR); FAR Case 2015-012; Contractor Employee Internal Confidentiality Agreements

Legal Authority: 40 U.S.C. 121(c); 10 U.S.C. ch. 137; 51 U.S.C. 20113

Abstract: DoD, GSA, and NASA are issuing a final rule to amend the Federal Acquisition Regulation (FAR) to implement a section of the Consolidated and Further Continuing Appropriations Act, 2015, that prohibits the use of funds, appropriated or otherwise made available, for a contract with an entity that requires employees or subcontractors to sign an internal confidentiality agreement that restricts such employees or subcontractors from lawfully reporting waste, fraud, or abuse to a designated Government representative authorized to receive such information.

Timetable:

Action | Date | FR Cite
NPRM | 01/22/16 | 81 FR 3763
NPRM Comment Period End | 03/22/16 |
Final Rule | 02/00/17 |

Regulatory Flexibility Analysis Required: Yes.

Agency Contact: Cecelia L. Davis, Procurement Analyst, DOD/GSA/NASA (FAR), 1800 F Street NW., Washington, DC 20405, Phone: 202 219-0202, Email: cecelia.davis@gsa.gov.

RIN: 9000-AN04

432. Federal Acquisition Regulation (FAR); FAR Case 2016-007; Non-Retaliation for Disclosure of Compensation Information

Legal Authority: 40 U.S.C. 121(c); 10 U.S.C. ch. 137; 51 U.S.C. 20113

Abstract: DoD, GSA, and NASA are issuing an interim rule amending the Federal Acquisition Regulation (FAR) to implement Executive Order (E.O.) 13665, entitled, Non-Retaliation for Disclosure of Compensation Information,” and a final rule issued by the Department of Labor at 41 CFR part 60-1.

Timetable:

Action | Date | FR Cite
Interim Final Rule | 09/30/16 | 81 FR 67732
Interim Final Rule Comment Period End | 11/29/16 |
Final Rule | 05/00/17 |

Regulatory Flexibility Analysis Required: Yes.

Agency Contact: Zenaida Delgado, Procurement Analyst, DOD/GSA/NASA (FAR), 1800 F Street NW., Washington, DC 20405, Phone: 202 969-7207, Email: zenaida.delgado@gsa.gov.

RIN: 9000-AN10

433. • Federal Acquisition Regulation (FAR); FAR Case 2016-004; Acquisition Threshold for Special Emergency Procurement Authority

Legal Authority: 40 U.S.C. 121(c); 10 U.S.C. ch. 137; 51 U.S.C. 20113

Abstract: DoD, GSA, and NASA are issuing a final rule to amend the Federal Acquisition Regulation (FAR) to implement section 816 of the National Defense Authorization Act for Fiscal Year 2016 to raise the simplified acquisition threshold for special emergency procurement authority from $300,000 to $750,000 (within the United States) and from $1 million to $1.5 million (outside the United States). The threshold is used to support contingency operations or to facilitate defense against or recovery from nuclear, biological, chemical, or radiological attack.

Timetable:

Action | Date | FR Cite
NPRM | 06/20/16 | 81 FR 39882
NPRM Comment Period End | 08/19/16 |
Final Rule | 04/00/17 |

Regulatory Flexibility Analysis Required: Yes.

Agency Contact: Camara Francis, Procurement Analyst, DOD/GSA/NASA (FAR), 1800 F Street NW., Washington, DC 20405, Phone: 202 550-0935, Email: camara.francis@gsa.gov.

RIN: 9000-AN18

434. • Federal Acquisition Regulation (FAR); FAR Case 2015-005, System for Award Management Registration

Legal Authority: 40 U.S.C. 121(c); 10 U.S.C. ch. 137; 51 U.S.C. 20113

Abstract: DoD, GSA, and NASA are issuing a final rule to amend the Federal Acquisition Regulation (FAR) to update the instructions for System for Award Management (SAM) registration requirements and to correct an inconsistency with offeror representation and certification requirements.

Timetable:

Action | Date | FR Cite
NPRM | 05/20/16 | 81 FR 31895
NPRM Comment Period End | 07/19/16 |
Final Rule | 03/00/17 |

Regulatory Flexibility Analysis Required: Yes.

Agency Contact: Curtis E. Glover Sr., Procurement Analyst, DOD/GSA/NASA (FAR), 1800 F Street NW., Washington, DC 20405, Phone: 202 501-1448, Email: curtis.glover@gsa.gov.

RIN: 9000-AN19

435. Federal Regulation Acquisition (FAR); FAR Case 2015-024, Public Disclosure of Greenhouse Gas Emissions and Reduction Goals—Representation

Legal Authority: 40 U.S.C. 121(c); 10 U.S.C. ch. 137; 51 U.S.C. 20113

Abstract: DoD, GSA, and NASA are issuing a final rule to amend the Federal Acquisition Regulation (FAR) to create an annual representation within the System for Award Management for vendors to indicate if and where they publicly disclose greenhouse gas emissions and greenhouse gas reduction goals or targets. This information will help the Government assess supplier greenhouse gas management practices and assist agencies in developing strategies to engage with contractors to reduce supply chain emissions, as directed in the Executive Order on Planning for Federal Sustainability in the Next Decade.

Timetable:

Action | Date | FR Cite
NPRM | 05/25/16 | 81 FR 33192
NPRM Comment Period End | 07/25/16 |
Final Rule | 12/00/16 |

Regulatory Flexibility Analysis Required: Yes.

Agency Contact: Charles Gray, Program Analyst, DOD/GSA/NASA (FAR), 1800 F Street NW., Washington, DC 20405, Phone: 202 208-6766, Email: charles.gray@gsa.gov.

RIN: 9000-AN20

436. • Federal Acquisition Regulation (FAR); FAR Case 2015-035, Removal of Regulations Relating to Telegraphic Communication

Legal Authority: 40 U.S.C. 121(c); 10 U.S.C. ch. 137; 51 U.S.C. 20113

Abstract: DoD, GSA, and NASA are issuing a final rule to amend the Federal Acquisition Regulation (FAR) to delete the use of telegram, telegraph, and related terms. The objective is to delete reference to obsolete technologies no longer in use and replace with references to electronic communications. In addition, conforming changes are proposed covering expedited notice of termination and change orders.

Timetable:

Action | Date | FR Cite
NPRM | 06/06/16 | 81 FR 36245
NPRM Comment Period End | 08/05/16 |
Final Rule | 02/00/17 |

Regulatory Flexibility Analysis Required: Yes.

Agency Contact: Camara Francis, Procurement Analyst, DOD/GSA/NASA (FAR), 1800 F Street NW., Washington, DC 20405, Phone: 202 550-0935, Email: camara.francis@gsa.gov.

RIN: 9000-AN23

437. • Federal Acquisition Regulation; FAR Case 2017-001; Paid Sick Leave for Federal Contractors

Legal Authority: 40 U.S.C. 121(c); 10 U.S.C. chapter 137; 51 U.S.C. 20113

Abstract: DoD, GSA, and NASA are proposing to amend the Federal Acquisition Regulation (FAR) to implement the Executive Order, Establishing Paid Sick Leave for Federal Contractors, and a final rule issued by the Department of Labor.

Timetable:

Action | Date | FR Cite
Interim Final Rule | 12/00/16 |

Regulatory Flexibility Analysis Required: Yes.

Agency Contact: Zenaida Delgado, Procurement Analyst, DOD/GSA/NASA (FAR), 1800 F Street NW., Washington, DC 20405, Phone: 202 969-7207, Email: zenaida.delgado@gsa.gov.

RIN: 9000-AN27

DEPARTMENT OF DEFENSE/GENERAL SERVICES ADMINISTRATION/NATIONAL AERONAUTICS AND SPACE ADMINISTRATION (FAR)

Completed Actions

438. Federal Acquisition Regulation (FAR); FAR Case 2011-020; Basic Safeguarding of Contractor Information Systems

Legal Authority: 40 U.S.C. 121(c); 10 U.S.C. ch. 137; 51 U.S.C. 20113

Abstract: DoD, GSA, and NASA issued a final rule that amended the Federal Acquisition Regulation (FAR) to add a new subpart and contract clause for the basic safeguarding of contractor information systems that process, store or transmit Federal contract information. The clause does not relieve the contractor of any other specific safeguarding requirement specified by Federal agencies and departments as it relates to covered contractor information systems generally or other Federal requirements for safeguarding oControlled Unclassified Information (CUI) as established by Executive Order (E.O.). Systems that contain classified information, or CUI such as personally identifiable information, require more than the basic level of protection.

Completed:

Reason | Date | FR Cite
Final Rule | 05/16/16 | 81 FR 30439
Final Rule Effective | 06/15/16 |

Regulatory Flexibility Analysis Required: Yes.

Agency Contact: Cecelia L Davis, Phone: 202 219-0202, Email: cecelia.davis@gsa.gov.

RIN: 9000-AM19

439. Federal Acquisition Regulation (FAR); FAR Case 2014-012; Limitation on Allowable Government Contractor Compensation Costs

Legal Authority: 40 U.S.C. 121(c); 10 U.S.C. ch. 137; 51 U.S.C. 20113

Abstract: DoD, GSA and NASA are issuing a final rule amending the Federal Acquisition Regulation to implement section 702 of the Bipartisan Budget Act of 2013. In accordance with section 702, the interim rule revises the allowable cost limit relative to the compensation of contractor and subcontractor employees. Also, in accordance with section 702, this interim rule implements the possible exception to this allowable cost limit for narrowly targeted scientists, engineers, or other specialists upon an agency determination that such exceptions are needed to ensure that the executive agency has continued access to needed skills and capabilities.

Completed:

Reason | Date | FR Cite
Final Rule | 09/30/16 | 81 FR 67778
Final Rule Effective | 09/30/16 |

Regulatory Flexibility Analysis Required: Yes.

Agency Contact: Kathy Hopkins, Phone: 202 969-7226, Email: kathlyn.hopkins@gsa.gov.

RIN: 9000-AM75

440. Federal Acquisition Regulation (FAR); FAR Case 2014-025; Fair Pay and Safe Workplaces

Legal Authority: 40 U.S.C. 121(c); 10 U.S.C. ch. 137; 51 U.S.C. 20113

Abstract: DoD, GSA, and NASA are issuing a final rule amending the Federal Acquisition Regulation which implements Executive Order 13673, Fair Pay and Safe Workplaces, seeks to increase efficiency in the work performed by Federal contractors by ensuring that they understand and comply with labor laws designed to promote safe, healthy, fair and effective workplaces.

Completed:

Reason | Date | FR Cite
Final Rule | 08/25/16 | 81 FR 58562
Final Rule Effective | 10/25/16 |

Regulatory Flexibility Analysis Required: Yes.

Agency Contact: Zenaida Delgado, Phone: 202 969-7207, Email: zenaida.delgado@gsa.gov.

RIN: 9000-AM81

441. Federal Acquisition Regulation (FAR); FAR Case 2014-026; High Global Warming Potential Hydrofluorocarbons

Legal Authority: 40 U.S.C. 121(c); 10 U.S.C. ch. 137; 51 U.S.C. 20113

Abstract: DoD, GSA, and NASA issued a final rule amending the Federal Acquisition Regulation (FAR) to implement Executive branch policy in the President's Climate Action Plan to procure, when feasible, alternatives to high global warming potential (GWP) hydrofluorocarbons (HFCs). This final rule will allow agencies to better meet the greenhouse gas emission reduction goals and reporting requirements of the Executive Order on Planning for Sustainability in the Next Decade.

Completed:

Reason | Date | FR Cite
Final Rule | 05/16/16 | 81 FR 30429
Final Rule Effective | 06/15/16 |

Regulatory Flexibility Analysis Required: Yes.

Agency Contact: Charles Gray, Phone: 202 208-6726, Email: charles.gray@gsa.gov.

RIN: 9000-AM87

442. Federal Acquisition Regulation (FAR); FAR Case 2014-015; Consolidation and Bundling

Legal Authority: 40 U.S.C. 121(c); 10 U.S.C. ch. 137; 51 U.S.C. 20113

Abstract: DoD, GSA, and NASA are issuing a final rule to amend the Federal Acquisition Regulation (FAR) to implement sections of the Small Business Jobs Act of 2010 and regulatory changes made by the Small Business Administration, which provide for a Governmentwide policy on consolidation and bundling. Additional information is located in the FAR final plan (2016), available at: https://www.acquisition.gov/.

Completed:

Reason | Date | FR Cite
Final Rule | 09/30/16 | 81 FR 67763
Final Rule Effective | 10/31/16 |

Regulatory Flexibility Analysis Required: Yes.

Agency Contact: Mahruba Uddowla, Phone: 703 605-2868, Email: mahruba.uddowla@gsa.gov.

RIN: 9000-AM92

443. Federal Acquisition Regulation (FAR); FAR Case 2015-018; Improvements in Design Build Construction Process

Legal Authority: 40 U.S.C. 121(c); 10 U.S.C. ch. 137; 51 U.S.C. 20113

Abstract: DoD, GSA, and NASA issued a final rule amending the Federal Acquisition Regulation (FAR) to implement section 814 of the Carl Levin and Howard P. `Buck' McKeon National Defense Authorization Act for Fiscal Year 2015 that requires the head of the contracting activity to approve any determinations to select more than five offerors to submit phase-two proposals for a two-phase design-build construction acquisition that is valued at greater than $4 million.

Completed:

Reason | Date | FR Cite
Final Rule | 05/16/16 | 81 FR 30447
Final Rule Effective | 06/15/16 |

Regulatory Flexibility Analysis Required: Yes.

Agency Contact: Curtis E. Glover, Phone: 202 501-1448, Email: curtis.glover@gsa.gov.

RIN: 9000-AM99

444. Federal Acquisition Regulation (FAR); FAR Case 2015-022; Unique Identification of Entities Receiving Federal Awards

Legal Authority: 40 U.S.C. 121(c); 10 U.S.C. ch. 137; 51 U.S.C. 20113

Abstract: DoD, GSA, and NASA are issuing a final rule to amend the Federal Acquisition Regulation (FAR) to re-designate the terminology for unique identification of entities receiving Federal awards. The change to the FAR will remove the proprietary standard or number.

Completed:

Reason | Date | FR Cite
Final Rule | 09/30/16 | 81 FR 67736
Final Rule Effective | 10/31/16 |

Regulatory Flexibility Analysis Required: Yes.

Agency Contact: Zenaida Delgado, Phone: 202 969-7207, Email: zenaida.delgado@gsa.gov.

RIN: 9000-AN00

445. Federal Acquisition Regulation (FAR); FAR Case 2015-011; Prohibition on Contracting With Corporations With Delinquent Taxes or a Felony Conviction

Legal Authority: 40 U.S.C. 121(c); 10 U.S.C. ch. 137; 51 U.S.C. 20113

Abstract: DoD, GSA, and NASA are issuing a final rule amending the Federal Acquisition Regulation (FAR) to implement sections of the Consolidated and Further Continuing Appropriations Act, 2015, to prohibit the Federal Government from entering into a contract with any corporation having a delinquent Federal tax liability or a felony conviction under any Federal law, unless the agency has considered suspension or debarment of the corporation and has made a determination that this further action is not necessary to protect the interests of the Government.

Completed:

Reason | Date | FR Cite
Final Rule | 09/30/16 | 81 FR 67728
Final Rule Effective | 09/30/16 |

Regulatory Flexibility Analysis Required: Yes.

Agency Contact: Cecelia L. Davis, Phone: 202 219-0202, Email: cecelia.davis@gsa.gov.

RIN: 9000-AN05

446. Federal Acquisition Regulation (FAR): FAR Case 2014-018; Contractors Performing Private Security Functions

Legal Authority: 40 U.S.C. 121(c); 10 U.S.C. ch. 137; 51 U.S.C. 20113

Abstract: DoD, GSA, and NASA are issuing a final rule to amend the Federal Acquisition Regulation (FAR) to remove the distinction between DoD and non- DoD agency areas of operation applicable for the use of FAR clause “Contractors Performing Private Security Functions Outside the United States” and provide a definition of “full cooperation” within the clause.

Completed:

Reason | Date | FR Cite
Final Rule | 09/30/16 | 81 FR 67776
Final Rule Effective | 10/31/16 |

Regulatory Flexibility Analysis Required: Yes.

Agency Contact: Michael O. Jackson, Phone: 202 208-4949, Email: michaelo.jackson@gsa.gov.

RIN: 9000-AN07

447. Federal Acquisition Regulation; FAR Case 2015-020, Simplified Acquisition Threshold for Overseas Acquisitions in Support of Humanitarian or Peacekeeping Operations

Legal Authority: 40 U.S.C. 121(c); 10 U.S.C. ch. 137; 51 U.S.C. 20113

Abstract: DoD, GSA, and NASA issued a final rule to amend the Federal Acquisition Regulation (FAR) to implement 41 U.S.C. 153, which establishes a higher simplified acquisition threshold for overseas acquisitions in support of humanitarian or peacekeeping operations.

Completed:

Reason | Date | FR Cite
Final Rule | 05/16/16 | 81 FR 30438
Final Rule Effective | 06/15/16 |

Regulatory Flexibility Analysis Required: Yes.

Agency Contact: Camara Francis, Phone: 202 550-0935, Email: camara.francis@gsa.gov.

RIN: 9000-AN09

448. Federal Acquisition Regulation (FAR); FAR Case 2015-025, Revision to Standard Forms for Bonds

Legal Authority: 40 U.S.C. 121(c); 10 U.S.C. ch. 137; 51 U.S.C. 20113

Abstract: DoD, GSA, and NASA issued a final rule to revise Standard Forms prescribed by the Federal Acquisition Regulation (FAR) for contracts involving bonds and other financial protections. The revisions are aimed at clarifying liability limitations and expanding the options for organization types.

Completed:

Reason | Date | FR Cite
Final Rule | 07/14/16 | 81 FR 45855
Final Rule Effective | 08/15/16 |

Regulatory Flexibility Analysis Required: Yes.

Agency Contact: Kathy Hopkins, Phone: 202 969-7226, Email: kathlyn.hopkins@gsa.gov.

RIN: 9000-AN11

449. Federal Acquisition Regulation (FAR); FAR Case 2015-032, Sole Source Contracts for Women-Owned Small Businesses

Legal Authority: 40 U.S.C. 121(c); 10 U.S.C. ch. 137; 51 U.S.C. 20113

Abstract: DoD, GSA, and NASA are issuing a final rule amending the Federal Acquisition Regulation (FAR) to implement regulatory changes made by the Small Business Administration, which provide for authority to award sole source contracts to economically disadvantaged women-owned small business concerns and to women-owned small business concerns eligible under the Women-Owned Small Business Program. This case is included in the FAR retrospective review of existing regulations under Executive Order 13563. Additional information is located in the FAR final plan (2016), available at: https://www.acquisition.gov/.

Completed:

Reason | Date | FR Cite
Final Rule | 09/30/16 | 81 FR 67735
Final Rule Effective | 09/30/16 |

Regulatory Flexibility Analysis Required: Yes.

Agency Contact: Mahruba Uddowla, Phone: 703 605-2868, Email: mahruba.uddowla@gsa.gov.

RIN: 9000-AN13

450. Federal Acquisition Regulation (FAR); FAR Case 2015-036, Updating Federal Contractor Reporting of Veterans' Employment

Legal Authority: 40 U.S.C. 121(c); 10 U.S.C. ch. 137; 51 U.S.C. 20113

Abstract: DoD, GSA, and NASA are issuing a final rule amending the Federal Acquisition Regulation (FAR) to implement a final rule issued by the Department of Labor's (DOL) Veterans' Employment and Training Service (VETS), which replaced the VETS-100A Federal Contractor Veterans' Employment Report forms with the new VETS-4212, Federal Contractor Veterans' Employment Report form.

Completed:

Reason | Date | FR Cite
Final Rule | 09/30/16 | 81 FR 67731
Final Rule Effective | 09/30/16 |

Regulatory Flexibility Analysis Required: Yes.

Agency Contact: Zenaida Delgado, Phone: 202 969-7207, Email: zenaida.delgado@gsa.gov.

RIN: 9000-AN14

451. • Federal Acquisition Regulation (FAR); FAR Case 2016-003, Administrative Cost To Issue and Administer a Contract

Legal Authority: 40 U.S.C. 121(c); 10 U.S.C. ch. 137; 51 U.S.C. 20113

Abstract: DoD, GSA, and NASA are issuing a final rule to amend the Federal Acquisition Regulation (FAR) to revise the estimated administrative cost to award and administer a contract, for the purpose of evaluating bids for multiple awards.

Timetable:

Action | Date | FR Cite
NPRM | 05/12/16 | 81 FR 29514
NPRM Comment Period End | 07/11/16 |
Withdrawn | 10/05/16 |

Regulatory Flexibility Analysis Required: Yes.

Agency Contact: Michael O. Jackson, Procurement Analyst, DOD/GSA/NASA (FAR), 1800 F Street NW., Washington, DC 20405, Phone: 202 208-4949, Email: michaelo.jackson@gsa.gov.

RIN: 9000-AN21

452. • FAR Case 2016-006; Amendment Relating to Multi-Year Contract Authority for Acquisition of Property

Legal Authority: 40 U.S.C. 121(c); 10 U.S.C. ch. 137; 51 U.S.C. 20113

Abstract: DoD, GSA, and NASA are issuing a final rule amending the Federal Acquisition Regulation (FAR) to implement section 811 of the National Defense Authorization Act (NDAA) for Fiscal Year (FY) 2016, which amended 10 U.S.C. 2306b to require that significant savings would be achieved by entering into a multi-year contract.

Timetable:

Action | Date | FR Cite
Final Rule | 09/30/16 | 81 FR 67773
Final Rule Effective | 10/31/16 |

Regulatory Flexibility Analysis Required: Yes.

Agency Contact: Michael O. Jackson, Procurement Analyst, DOD/GSA/NASA (FAR), 1800 F Street NW., Washington, DC 20405, Phone: 202 208-4949, Email: michaelo.jackson@gsa.gov.

RIN: 9000-AN24

453. • Federal Acquisition Regulation; FAR Case 2016-009; New Designated Countries—Ukraine and Moldova

Legal Authority: 40 U.S.C. 121(c); 10 U.S.C. ch. 137; 51 U.S.C. 20113

Abstract: DoD, GSA, and NASA are issuing a final rule amending the Federal Acquisition Regulation (FAR) to add Ukraine and Moldova as new designated countries under the World Trade Organization Government Procurement Agreement (WTO GPA).

Timetable:

Action | Date | FR Cite
Final Rule | 09/30/16 | 81 FR 67774
Final Rule Effective | 10/31/16 |

Regulatory Flexibility Analysis Required: Yes.

Agency Contact: Cecelia L. Davis, Procurement Analyst, DOD/GSA/NASA (FAR), 1800 F Street NW., Washington, DC 20405, Phone: 202 219-0202, Email: cecelia.davis@gsa.gov.

RIN: 9000-AN25

[FR Doc. 2016-29919 Filed 12-22-16; 8:45 am]

BILLING CODE 6820-EP-P